DEPARTMENT OF AGRICULTURE

Forest Service

Lassen National Forest; California; Treatment Unit-1 Project

AGENCY: Forest Service, USDA.

ACTION: Notice of intent.

SUMMARY: The Forest Service intends to prepare an environmental impact statement to analyze and disclose the environmental effects of implementing resource management activities that include fuelbreak construction consisting of a strategic system of defensible fuel profile zones and group selection harvests on the Almanor Ranger District on the Lassen National Forest. These land management activities would also be included in an administrative study to evaluate the effects that they may have on the California spotted owl. The construction of defensible fuel profile zones, and group selection harvests, are two management activities that are part of a five-year pilot project to test and demonstrate the effectiveness of certain resource management activities designed to meet ecologic, economic, and fuel reduction objectives described in the Herger-Feinstein Quincy Library Group Forest Recovery Act of October 21, 1998. The Record of Decision (January 12, 2001) for the Sierra Nevada Forest Plan Amendment Final Environmental Impact Statement directed the Pacific Southwest Research Station in collaboration with Region 5 monitoring personnel and the staffs of the National Forests in the Sierra Nevada to establish the Administrative Study. Treatment Unit-1 is one of eleven proposed administrative study areas.

DATES: Comments concerning the scope of the analysis should be received in writing on, or before February 19, 2002.

ADDRESSES: Send written comments to Susan Jeheber-Matthews, Almanor District Ranger, P.O. Box 767, Chester, CA 96020.

FOR FURTHER INFORMATION CONTACT: Dominic Cesmat, Interdisciplinary Team Leader, telephone: (530) 258-2141.

SUPPLEMENTARY INFORMATION:

Proposed Action

To accomplish the purpose of the administrative study, resource management activities included in the proposed Treatment Unit-1 Project are defensible fuel profile zone (DFPZ) construction, group selection harvests, the construction and maintenance of National Forest system roads, and the construction of temporary roads. The construction and maintenance of roads are needed to provide access to treatment areas. Road decommissioning of some system roads and all temporary roads would also be employed.

The analysis area is located in the Butte Creek, Jonesville, Philbrook, and Soda Ridge Management Areas (MA 37, 44, 46, and 45 respectively) on the Almanor Ranger District of the Lassen National Forest, and in the North Fork and Rich Management Areas (MA 19 and 20 respectively) on the Plumas National Forest. The analysis area contains approximately 58,300 acres of National Forest System land and approximately 11,300 acres of private land.

The proposed project is located in Butte, Plumas, and Tehama Counties, California. On the Almanor Range District of the Lassen National Forest, the project is located in all or portions of: Sections 1-3, 10-15, T.25N., R.4E.; Sections 2-10, 15-18, 20, 21, T.25N., R.5E.; Sections 1-4, 10-14, 24, 25, 35, 36, T.26N., R.4E.; Sections 1-23, 26-35, T.26N., R.5E.; Sections 1-11, 14-18, 20-27, 36, T.26N., R.6E.; Sections 6, 30, 31, T.26N., R.7E.; Sections 33-36, T.27N., R.4E.; Sections 10-36, T.27N., R.5E.; Sections 7, 14-36, T.27N., R.6E.; and Sections 30, 31, T.27N., R.7E., MDM. On the Mount Hough Ranger District of the Plumas National Forest, the project is located in all or portions of: Section 36, T.26N., R.6E.; and Section 31, T.26N., R.7E., MDM.

The Treatment Unit-1 Project area contains two of the five sub networks established to implement a DFPZ network on the Almanor Ranger District. The purpose of DFPZs in this area is to reduce the number of acres that would be burned by high-intensity stand-replacing fires. DFPZs are needed in this area in order to improve suppression efficiency by creating an environment where wildfires would burn at lower intensities and where fire fighting production rates would be increased. DFPZs are strategically located strips of land on which forest fuels, both living and dead, have been modified in order to reduce the potential for a sustained crown fire and to allow fire suppression personnel a safer location from which to take action against a wildfire. Fuels treatment strategies would focus on the alteration or reduction of surface fuels, ladder fuels, and canopy closure in order to effectively alter fire behavior and severity. Treatment methods would include thinning timbered stands, hand or machine piling of excessive forest fuels, and prescribed fire. The Treatment Unit-1 Project proposes to construct 11,400 acres of DFPZs.

Group selection harvests would be implemented to promote diversity in stand age and structure. Group selection would be implemented on an estimated 2,600 acres within the Treatment Unit-1 Project area.

The proposed action includes constructing and maintaining National Forest system roads and constructing temporary roads to provide access to treatment areas. Road decommissioning of some system roads and all temporary roads would also be employed. Some existing roads would be used to access treatment areas before decommissioning. Approximately up to eight water sources would be developed. These road treatments would include (road miles are approximate): (a) New road construction (24 miles); (b) road maintenance (13 miles); (c) temporary road construction (4 miles); and (d) road decommissioning (13 miles).

Decision To Be Made

The decision to be made is whether to: (1) Implement the proposed action; (2) to meet the purpose and need for action through some other combination of activities; or (3) take no action at this time.

The Sierra Nevada Forest Plan Amendment Final Environmental Impact Statement Record of Decision provides for variances from the standards and guidelines in the Land and Resource Management Plan to test hypotheses in a scientifically structured manner as long as they were a part of a formal adaptive management research project or administrative study, done in conjunction with the Pacific Southwest Research Station. The proposed actions as outlined for this project are in conjunction with the Lassen/Plumas Administrative Study and are therefore permissible without further plan amendment. These variances are needed to present additional contrast necessary for the Study, to increase the chance of invoking a range of response, and to describe a land base suitable for group selection. Variances include adjusting diameter and canopy cover limits as identified in the Study and to adjust HFQLG area available for group selection as identified in the Study.

Responsible Official and Lead Agency

The USDA Forest Service is the lead agency for this proposal. Forest Supervisor Ed Cole is the responsible official.

Tentative or Preliminary Issues and Possible Alternatives

Comments from the public and other agencies will be used in preparation of the draft environmental impact statement (DEIS). The scoping process will be used to identify questions and issues regarding the proposed action. An issue is defined as a point of dispute, debate, or disagreement related to a specific proposed action based on its anticipated effects. Significant issues brought to our attention are used during an environmental analysis to develop alternatives to the proposed action. Some issues raised in scoping may be considered non-significant because they are: (1) Beyond the scope of the proposed action and its purpose and need; (2) already decided by law, regulation, or the Land and Resource Management Plan; (3) irrelevant to the decision to be made; or (4) conjectural and not supported by scientific or factual evidence.

While public participation in this analysis is welcome at any time, comments received within 30 days of the publication of this notice will be especially useful in the preparation of the draft EIS.

Identification of Permits or Licenses Required

The need for several road easements, both permanent and temporary, has been identified to implement the proposed action.

Estimated Dates for Filing

The draft EIS is expected to be filed with the Environmental Protection Agency and available for public review in the spring or summer of 2002. The comment period on the draft EIS will be 45 days from the date the Environmental Protection Agency publishes the notice of availability of the draft EIS in the Federal Register.

The Reviewers Obligation To Comment

The Forest Service believes, at this early stage, it is important to give reviewers notice of several court rulings related to public participation in the environmental review process. First, reviewers of draft statements must structure their participation in the environmental review of the proposal so that is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulation of implementing the procedural provisions of the National Environmental Policy Act at 40 CFR 1503.3 in addressing these points.

Dated: January 10, 2002.
Edward C. Cole,
Forest Supervisor.

[FR Doc. 02-1444 Filed 1-18-02; 8:45 am]

BILLING CODE 3410-11-M